DEPARTMENT OF COMMERCE

International Trade Administration

Notice of a Roundtable on Capturing the Value of Digital Services in Industrial Machinery

AGENCY: Industry and Analysis, International Trade Administration, U.S. Department of Commerce.

ACTION: Notice of a roundtable discussion on capturing the value of digital services in industrial machinery.

SUMMARY: The Industry and Analysis (I&A) unit of the International Trade Administration (ITA) of the Department of Commerce is leading an effort to develop a methodology to calculate the value of machinery-based digital services in international trade. Better understanding of the true value of digital services in the machinery sector will allow the United States Government to more effectively advocate for U.S. industry in trade negotiations and international dialogues. Through this notice, I&A announces a roundtable to facilitate a discussion with industry stakeholders and experts as an important step in improving the Department's understanding of the value of digital services in industrial machinery.

DATES:

Event: The roundtable will be held on March 11, 2020, from 9:30 a.m. to 11:30 a.m., Eastern Standard Time.

Event Registration: I&A will evaluate registrations based on the submitted information and selection criteria (see below). Selection decisions will be made on a rolling basis until 10 participants have been selected for the roundtable, or until February 28, 2020, whichever occurs first.

ADDRESSES: Event: The roundtable will be held at the Department of Commerce, 1401 Constitution Ave. NW, Washington, DC 20230.

FOR FURTHER INFORMATION CONTACT: DigitalServicesRoundtable@trade.gov; Jaron Bass, International Trade Specialist, ITA, at (202) 482-2625; or Jessica Huang, Economist, ITA, at (202) 482-6387.

SUPPLEMENTARY INFORMATION: I&A recognizes that data and knowledge gaps exist in assessing the value of digital services as it relates to industrial machinery, a $430 billion segment of the economy, and international trade in this sector. As emerging technologies increasingly become integrated into industrial machinery and manufacturing, the machinery itself becomes a platform for a host of digital services. In many cases, a U.S. machinery manufacturer's competitive advantage lies in its ability to deliver these services, which has begun to alter global supply chains. Currently, there are no reliable sources of data to track the value and trade of digital services associated with industrial machinery. Therefore, I&A is working to develop a methodology to both categorize and value trade of these services.

As an important step in developing a data-collection methodology, I&A is hosting an exploratory roundtable designed for industry stakeholder input. The goal of this roundtable is to receive guidance from stakeholders on what categories compose the most impactful digital services for automation equipment, as well as effective survey methodology that can be used to collect information from U.S. companies regarding digital services in the future.

The roundtable is intended for individuals involved in their companies' digital services business development and/or production and performance metrics, including technical experts, services product managers, or individuals serving in a similar capacity. Representatives from U.S. companies or companies with a substantial manufacturing presence in the United States are encouraged to apply to participate. As a result, we are not encouraging attendance by trade associations, consulting organizations, or academic institutions. The roundtable is designed to gather information to improve data collection and will not be utilized to seek consensus on any policy items. The sharing of confidential business information will not be permitted during the roundtable.

I&A is seeking applications from companies that meet the selection criteria outlined below to participate in the March 11 roundtable, which will be led by I&A.

Event: The March 11, 2020 roundtable, which will be hosted by I&A in Washington, DC will consist of three discussions: (1) Identifying the most important digital services related to specific sub-sectors of industrial machinery industry, (2) categorizing the types of digital services associated with industrial machinery to winnow duplicative terminology, and (3) discussing how the U.S. government can collect data on these services. Agenda topics and format are subject to change. Due to limited space, the event is not open to the public. Industry participation is limited to 10 qualifying industry representatives.

Selection Process

Participation

Persons seeking to participate in the roundtable will be evaluated based on their ability to meet certain conditions and best satisfy the selection criteria outlined below. A maximum of 10 participants will be selected. Interested parties must submit their applications for participation in the roundtable by email to DigitalServicesMachinery@trade.gov. Interested parties will be reviewed on a rolling basis in the order that they are received. Views of any interested person and other information regarding this topic are welcome, and can be submitted by email to DigitalServicesMachinery@trade.gov.

Timeline for Recruitment

Applications for the March 11 roundtable must be received by February 28, 2020. I&A will evaluate registrations based on the submitted information and selection criteria (see below) and inform applicants of selection decisions.

Conditions for Participation

Interested parties must send an email to DigitalServicesRoundtable@trade.gov addressing how they satisfy the selection criteria listed below.

Applicants should be capable of identifying and discussing digital services' impact on U.S. firms, industry and/or the manufacturing sector. Company representatives attending the roundtable should be technical experts, services product managers, or individuals serving in a similar capacity.

Diversity of company size, location, and industry will also be considered during the selection process. Selection will be made without regard to political affiliation.

Applicants should include the following information in their application email:

• Name of applicant and a short biography, including the applicant's ability to speak to the impact of digital services on the U.S. industrial machinery sector or a specific U.S. firm.

• Name of company and brief description of company size, location, and industry.

• A statement describing whether the applicant represents a U.S. company that fits one or both of the following profiles: (1) U.S. manufacturers utilizing digital services in their daily operations or bundling digital services in their finished goods sales, (2) digital service providers with clients in industrial machinery industries.

Selection will be based on the following criteria:

• Importance of the company's existing manufacturing process, products, and/or services to the industrial machinery sector.

• The degree to which the company represents the broader diversity of the industrial machinery sector, with respect to company size, location, and industry.

• Suitability of the representative's position, biography, and ability to meaningfully contribute to the conversation.

Dated: February 5, 2020.
Scott Kennedy,
Office Director, Office of Transportation and Machinery.

[FR Doc. 2020-02601 Filed 2-10-20; 8:45 am]

BILLING CODE 3510-DR-P